DEPARTMENT OF AGRICULTURE

Submission for OMB Review; Comment Request

March 5, 2009.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: National Animal Health Monitoring System; Goat 2009 Study.

OMB Control Number: 0579-NEW.

Summary of Collection: The Animal Health Protection Act (7 U.S.C. 8301 et seq.) authorizes the Animal and Plant Health Inspection Service (APHIS) to prevent the introduction and interstate spread of livestock diseases by prohibiting or restricting the importation and interstate movement of animals and other articles and by eradicating such diseases from the United States when feasible. In connection with this mission, APHIS operates the National Animal Health Monitoring System (NAHMS), which collects nationally representative, statistically valid, and scientifically sound data on the prevalence and economic importance of livestock and poultry diseases and associated risk factors. APHIS plans to conduct the Goat 2009 Study as part of an ongoing series of NAHMS studies on the U.S. livestock population.

Need and Use of the Information: The purpose of the study is to collect information through questionnaires and biologic sampling. APHIS will use the data collected to: (1) Establish national and regional production measures for producers, veterinary, and industry reference; (2) predict or detect national and regional trends in disease emergence and movement; (3) address emerging issues; (4) examine the economic impact of health management practices; (5) provide estimates of both outcome (disease or other parameters) and exposure (risks and components) variables that can be used in analytic studies in the future by APHIS; (6) provide input into the design of surveillance systems for specific diseases; and (7) provide parameters for animal disease spread models. Without this data, the U.S.' ability to detect trends in management, production, and health status, either directly or indirectly, would be reduced or nonexistent.

Description of Respondents: Business or other for-profit.

Number of Respondents: 5,500.

Frequency of Responses: Reporting: On occasion.

Total Burden Hours: 8,349.

Animal and Plant Health Inspection Service

Title: Johne's Disease in Domestic Animals; Interstate Movement, 9 CFR 80.

OMB Control Number: 0579-0148.

Summary of Collection: The Animal Health Protection Act (AHPA) of 2002 is the primary Federal law governing the protection of animal health. The law gives the Secretary of Agriculture broad authority to detect, control, or eradicate pests or diseases of livestock or poultry. Johne's disease affects cattle, sheep, goats, and other ruminants. It is an incurable and contagious disease that results in progressive wasting and eventual death. The disease is nearly always introduced into a healthy herd by an infected animal that is not showing symptoms of the disease. Moving John's, positive livestock interstate for slaughter or for other purposes and doing so without increasing the risk of disease spread requires the use of an owner-shipper statement and official eartags in this program.

Need and Use of the Information: APHIS will collect information that includes: (1) The number of animals to be moved, (2) the species of the animals, (3) the point of origin and destination, and (4) the consignor and consignee. Without the information APHIS would be unable to ensure that Johne's disease is not spread to healthy animal populations throughout the United States.

Description of Respondents: Business or other for profit; Farms.

Number of Respondents: 275.

Frequency of Responses: Reporting: On occasion.

Total Burden Hours: 102.

Ruth Brown,
Departmental Information Collection Clearance Officer.

[FR Doc. E9-5053 Filed 3-9-09; 8:45 am]

BILLING CODE 3410-34-P